DEPARTMENT OF LABOR

Employment and Training Administration

Labor Surplus Area Classification Under Executive Orders 12073 and 10582; Correction

ACTION: Correction.

SUMMARY: In notice document Vol. 68 No. 23 page 5751 and page 5763 in the issue of Tuesday, February 4, 2003, make the following correction: On page 5751 in the first column, for Arkansas following Monroe County, include Newton County and in the second column following Monroe County, include Newton County. On page 5763 for North Dakota in the first column following Benson County, include McLean County and in the second column following Benson County include McLean County.

FOR FURTHER INFORMATION CONTACT: Anthony Dais, Acting Division Chief, U.S. Employment Service, Employment and Training Administration, 200 Constitution Avenue, NW., Room C 4512, Washington, DC 20210. Telephone: (202) 693-3046 (this not a toll-free number).

SUPPLEMENTARY INFORMATION: The Department of Labor regulations implementing Executive Orders 12073 and 10582 are set forth at 20 CFR part 654, subparts A and B. These regulations require the Assistant Secretary of Labor to classify jurisdictions are labor surplus areas pursuant to the criteria specified in the regulations and to publish annually a list of labor surplus areas. Pursuant to those regulations the Assistant Secretary of Labor hereby published the annual list of labor surplus areas, on February 4, 2003 at 68 FR 5748. However, due to problems with the electronic file, the notice included two omissions. For the convenience of the public the Labor Surplus Area list is posted on the Internet at the following addresses: www.doleta.gov and www.usworkforce.org. The Labor Surplus Area list will no longer be published in the Area Trends.

Dated: March 3, 2003.
Emily Stover DeRocco,
Assistant Secretary of Labor.

[FR Doc. 03-5724 Filed 3-10-03; 8:45 am]

BILLING CODE 4510-30-M